DEPARTMENT OF ENERGY

Federal Energy Regulatory Commission

Combined Notice of Filings #1

Take notice that the Commission received the following electric corporate filings:

Docket Numbers: EC18-79-000.

Applicants: MDU Resources Group, Inc., Ace Wind LLC, Thunder Spirit Wind, LLC.

Description: Application of MDU Resources Group, Inc., et al. for Authorization under FPA Section 203 for Disposition of Jurisdictional Facilities, et al.

Filed Date: 4/2/18.

Accession Number: 20180402-5400.

Comments Due: 5 p.m. ET 4/23/18.

Take notice that the Commission received the following electric rate filings:

Docket Numbers: ER10-3199-004.

Applicants: MDU Resources Group, Inc.

Description: Supplement to December 29, 2017 Updated Market Analysis in the Central Region of MDU Resources Group, Inc.

Filed Date: 4/2/18.

Accession Number: 20180402-5404.

Comments Due: 5 p.m. ET 4/23/18.

Docket Numbers: ER18-728-001.

Applicants: California Independent System Operator Corporation.

Description: Compliance filing: 2018-04-03 Petition for Tariff Waiver to Delay Implementation RAAIM Methodology to be effective N/A.

Filed Date: 4/3/18.

Accession Number: 20180403-5114.

Comments Due: 5 p.m. ET 4/24/18.

Docket Numbers: ER18-1263-001.

Applicants: Pacific Gas and Electric Company.

Description: Tariff Amendment: Errata to Amendment No. 1 to Westside Power Authority IA and WDT SA (SA 15) to be effective 6/1/2018.

Filed Date: 4/2/18.

Accession Number: 20180402-5162.

Comments Due: 5 p.m. ET 4/23/18.

Docket Numbers: ER18-1264-001.

Applicants: Westar Energy, Inc.

Description: Tariff Amendment: Amendment to MPS Electric Interconnection Agreement to be effective 5/1/2018.

Filed Date: 4/2/18.

Accession Number: 20180402-5184

Comments Due: 5 p.m. ET 4/23/18.

Docket Numbers: ER18-1267-001.

Applicants: South Central MCN LLC.

Description: Tariff Amendment: Amended OATT Tariff Filing to be effective 3/31/2018.

Filed Date: 4/2/18.

Accession Number: 20180402-5274.

Comments Due: 5 p.m. ET 4/23/18.

Docket Numbers: ER18-1286-000.

Applicants: FirstEnergy Solutions Corp.

Description: § 205(d) Rate Filing: Amendment to Reactive Service Rate Schedule FERC No. 1 to be effective12/31/9998.

Filed Date: 4/2/18.

Accession Number: 20180402-5301.

Comments Due: 5 p.m. ET 4/23/18.

Docket Numbers: ER18-1287-000.

Applicants: ISO New England Inc., New England Power Pool Participants Committee.

Description: § 205(d) Rate Filing: ISO-NE and NEPOOL; Forward Capacity Market Revisions to be effective6/1/2018.

Filed Date: 4/2/18.

Accession Number: 20180402-5324.

Comments Due: 5 p.m. ET 4/23/18.

Docket Numbers: ER18-1288-000.

Applicants: California Independent System Operator Corporation.

Description: Compliance filing: 2018-04-02 Petition for Tariff Waiver to Delay Implementation RAAIM Methodology to be effective N/A.

Filed Date: 4/2/18.

Accession Number: 20180402-5364.

Comments Due: 5 p.m. ET 4/23/18.

Docket Numbers: ER18-1289-000.

Applicants: Industrial Assets, Inc.

Description: Baseline eTariff Filing: Baseline new to be effective 6/2/2018.

Filed Date: 4/3/18.

Accession Number: 20180403-5000.

Comments Due: 5 p.m. ET 4/24/18.

Docket Numbers: ER18-1290-000.

Applicants: NSTAR Electric Company.

Description: § 205(d) Rate Filing: Design Engineering Construction Agreement between NSTAR and New England Power Co to be effective4/3/2018.

Filed Date: 4/3/18.

Accession Number: 20180403-5118.

Comments Due: 5 p.m. ET 4/24/18.

Docket Numbers: ER18-1291-000.

Applicants: Midcontinent Independent System Operator, Inc., Ameren Illinois Company.

Description: § 205(d) Rate Filing: 2018-04-03_SA 3028 Ameren IL-Prairie Power Project#12 Atkinson to be effective 3/8/2018.

Filed Date: 4/3/18.

Accession Number: 20180403-5131.

Comments Due: 5 p.m. ET 4/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2018.
Nathaniel J. Davis, Sr.,
Deputy Secretary.

[FR Doc. 2018-07137 Filed 4-6-18; 8:45 am]

BILLING CODE 6717-01-P